DEPARTMENT OF TRANSPORTATION

Federal Railroad Administration

Petition for Waivers of Compliance

In accordance with 49 CFR 211.9 and 211.41, notice is hereby given that the Federal Railroad Administration (FRA) has received a request for a waiver of compliance with certain requirements of the Federal safety laws and regulations. The petition is described below, including the party seeking relief, the regulatory provisions involved, the nature of the relief being requested, and the petitioner's arguments in favor of relief.

Austin and Texas Central Railroad

[Docket Number FRA-2000-7366]

Austin and Texas Central Railroad of Cedar Park, Texas seeks a permanent waiver of compliance from the requirements of 49 CFR Part 223 (Safety Glazing Standards) for two diesel-electric locomotives, ACTX 442 and ACTX 443. The subjects of this petition are Model RSD-15 locomotives built by American Locomotive Company (Alco) in 1960.

These locomotives are used on 151.4 miles of Capitol Metropolitan Transit Authority-owned class 1 and 2 track. Operation on this line includes excursion and freight service. There are two crossings of other railroads and 296 highway/rail grade crossings. Primary use is between milepost 54.5 at Austin, Texas, and milepost 115.0 at Burnet, Texas. The railroad proposes to make any glazing repairs that may become necessary with certified glazing, if it is mechanically possible without alterations to the structure or function of the locomotives.

Interested parties are invited to participate in these proceedings by submitting written reviews, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number, (e.g., Docket Number FRA-2000-7366) and must be submitted to the DOT Docket Management Facility, Room PL-401 (Plaza Level), 400 Seventh Street, SW., Washington, DC 20590. Communications received within 45 days from the date of this notice will be considered by FRA before final action is taken. Comments received after that date will be considered as far as practicable. All written communications concerning these proceedings are available for examination during regular business hours (9 a.m.-5 p.m.) at the above facility. All documents in the public docket are also available for inspection and copying on the Internet at the docket facility's web site at http://dms.dot.gov.

Issued in Washington, DC on July 23, 2001.
Grady C. Cothen, Jr.,
Deputy Associate Administrator for Safety Standards and Program Development.

[FR Doc. 01-18659 Filed 7-25-01; 8:45 am]

BILLING CODE 4910-06-P